FEDERAL COMMUNICATIONS COMMISSION

47 CFR Part 15

[ET Docket No. 04-37; ET Docket No. 03-104; FCC 04-245]

Broadband Power Line Systems

AGENCY: Federal Communications Commission.

ACTION: Final rule; stay of effective date.

SUMMARY: On September 29, 2005, (70 FR 56856), the Commission announced the effective date of certain rules containing new information collection requirements that were published in the Federal Register on January 7, 2005. This document stays the effective date of the information collection requirements, which were approved by the Office of Management and Budget on September 15, 2005.

DATES: Effective October 19, 2005, the amendments to §§ 15.615 (a) through (e) published at 70 FR 1360, January 7, 2005, are stayed until November 19, 2005.

FOR FURTHER INFORMATION CONTACT: Nancy J. Brooks, Office of Engineering and Technology, Policy and Rules Division, (202) 418-2454.

List of Subjects in 47 CFR Part 15

Communications equipment, Computer technology, Labeling, Radio, Reporting and recordkeeping requirements, Security measures, Telephone, Wiretapping and electronic surveillance.

Federal Communications Commission.
Bulah P. Wheeler,
Agenda and Publication Analyst.

[FR Doc. 05-20993 Filed 10-18-05; 8:45 am]

BILLING CODE 6712-01-U